DEPARTMENT OF ENERGY

Federal Energy Regulatory Commission

[Docket No. CP18-520-000; Docket No. CP18-521-000]

Spire Storage West, LLC, Clear Creek Storage Company, L.L.C.; Notice of Applications

Take notice that on July 10, 2018, Spire Storage West, LLC (Spire), filed an application under section 7(c) of the Natural Gas Act (NGA) and part 157 of the Commission's regulations for a certificate of public convenience and necessity authorizing Spire's acquisition of the underground natural gas storage facility currently owned and operated by the Clear Creek Storage Company, L.L.C. (Clear Creek) and to operate that facility (Clear Creek Facility) to provide storage services in interstate commerce pursuant to Spire's FERC Gas Tariff. Spire further requests the Commission's reaffirmation of its authorization for Spire to charge market-based rates following its acquisition of the Clear Creek Facility.

Concurrently with the Spire application above, Clear Creek filed an application under section 7(b) of the Natural Gas Act (NGA) and part 157 of the Commission's regulations requesting authorization to abandon the Clear Creek Facility by combination with Spire, an affiliated entity.

Following approval of the proposals in the above applications and completion of the consolidation, Spire will render service through the combined Spire and Clear Creek facilities under Spire's open-access FERC Gas Tariff. These services will include service to any customer served by Clear Creek at the time of the combination.

Questions regarding the Spire filing in Docket No. CP18-520-000 may be directed to James F. Bowe, Jr., King & Spalding LLP, 1700 Pennsylvania Avenue NW, Suite 200, Washington, DC 20006; phone (202) 626-9601; FAX (202) 626-3737; jbowe@kslaw.com. Questions regarding the Clear Creek filing in Docket No. CP18-521-000 may be directed to James F. Bowe, Jr., or William E. Rice, King & Spalding LLP, 1700 Pennsylvania Avenue NW, Suite 200, Washington, DC 20006; phone (202)626-9601; FAX (202) 626-3737; jbowe@kslaw.com; or Castor Armesto, General Counsel, 700 Market Street, St. Louis, Missouri 63101; phone (314) 342-3326, castor.armesto@sapireenergy.com.

These filings are available for review at the Commission's Washington, DC offices, or may be viewed on the Commission's website at http://www.ferc.gov using the “e-Library” link. Enter the docket number, excluding the last three digits, in the docket number field to access the document. For assistance, please contact FERC Online Support at FERCOnlineSupport@ferc.gov, or call toll-free at (866) 208-3676, or for TTY, contact (202) 502-8659.

There are two ways to become involved in the Commission's review of this Project. First, any person wishing to obtain legal status by becoming a party to the proceeding for this project should file with the Federal Energy Regulatory Commission, 888 First Street NE, Washington, DC 20426, a motion to intervene in accordance with the requirements of the Commission's Rules of Practice and Procedure, 18 CFR 385.214, 385.211 (2016), by the comment date below. A person obtaining party status will be placed on the service list maintained by the Secretary of the Commission, and will receive copies of all documents filed by the applicant and by all other parties. A party must submit filings made with the Commission by mail, hand delivery, or internet, in accordance with Rule 2001 of the Commission's Rules of Practice and Procedure, id. 385.2001. A copy must be served on every other party in the proceeding. Only parties to the proceeding can ask for court review of Commission orders in the proceeding.

However, a person does not have to intervene to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the internet in lieu of paper; see 18 CFR 385.2001(a)(1)(iii) and the instructions on the Commission's website under the “e-filing” link. The Commission strongly encourages electronic filings.

As of the February 27, 2018 date of the Commission's order in Docket No. CP16-4-001, the Commission will apply its revised practice concerning out-of-time motions to intervene in any new Natural Gas Act section 3 or section 7 proceeding.¹ Persons desiring to become a party to a certificate proceeding are to intervene in a timely manner. If seeking to intervene out-of-time, the movant is required to “show good cause why the time limitation should be waived,” and should provide justification by reference to factors set forth in Rule 214(d)(1) of the Commission's Rules and Regulations.²

¹ Tennessee Gas Pipeline Company, L.L.C., 162 FERC ¶61,167 at ¶50 (2018).

² 18 CFR 385.214(d)(1).

If the Commission decides to set the application for a formal hearing before an Administrative Law Judge, the Commission will issue another notice describing that process. At the end of the Commission's review process, a final Commission order approving or denying the requested authorizations will be issued.

Comment Date: 5:00 p.m. Eastern Time, August 9, 2018.

Dated: July 16, 2018.
Kimberly D. Bose,
Secretary.

[FR Doc. 2018-15556 Filed 7-19-18; 8:45 am]

BILLING CODE 6717-01-P